DEPARTMENT OF TRANSPORTATION

Federal Transit Administration

Fiscal Years (FY) 2018 Competitive Research Funding Opportunity: FTA's Public Transportation Innovation Program, (49 U.S.C. 5312)

AGENCY: Federal Transit Administration (FTA), DOT.

ACTION: Notice of Funding Opportunity (NOFO) for the Safety Research and Demonstration (SRD) Program.

SUMMARY: The Federal Transit Administration (FTA) announces the availability of up to $7,300,000 in Fiscal Year (FY) 2018 and FY 2019 Public Transportation Innovation funds to demonstrate and evaluate innovative technologies, safer designs and/or practices to improve rail transit safety. FTA is seeking to fund cooperative agreements to engage in demonstrations that will improve the operational safety of rail transit services in the U.S. FTA is particularly interested in proposals to prevent and mitigate suicide and trespassing hazards on rail transit systems, and for systems that improve the operational safety of shared corridor fixed guideway systems, including highway-rail grade crossing safety.

DATES: Complete proposals are due by 11:59 p.m. EDT on March 24, 2020. All proposals must be submitted electronically through the GRANTS.GOV “APPLY” function. Prospective applicants should initiate the process by registering on GRANTS.GOV promptly to ensure completion of the application process before the submission deadline. Instructions for applying can be found at https://www.transit.dot.gov/grants and in the “FIND” module of GRANTS.GOV. Mail, electronic mail and fax submissions will not be accepted.

FOR FURTHER INFORMATION CONTACT: Please send any questions on this notice to royweishu.chen@dot.gov or contact Roy Chen, Safety Research Program Manager, Office of Research, Demonstration, and Innovation (TRI), (202) 366-0462. A Telecommunication Device for the Deaf (TDD) is available for individuals who are deaf or hard of hearing at 1-800-877-8339.

SUPPLEMENTARY INFORMATION: An eligible lead applicant under this notice must be an existing FTA grant recipient and eligible project partners and sub-recipients under this program may include, but are not limited to, providers of public transportation; State and local governmental entities; departments, agencies, and instrumentalities of the Federal Government, including Federal laboratories; private or non-profit organizations; institutions of higher education; and technical and community colleges.

For the purpose of this solicitation, rail transit systems are defined as transit modes whose vehicles travel along fixed rails forming a track. Rail transit systems that will be considered for this funding opportunity as a lead applicant or part of the team, should be public rail transit agencies that fall under the jurisdiction of FTA's State Safety Oversight (SSO) Program. This announcement is also available on the FTA website at: https://www.transit.dot.gov/grants.A synopsis of this funding opportunity will be posted in the FIND module of GRANTS.GOV at http://www.grants.gov. The funding Opportunity ID is FTA-2020-004-TRI-SRD and the Catalog of Federal Domestic Assistance (CFDA) number for FTA's Public Transportation Innovation Program, (49 U.S.C. 5312) is 20.530.

Each section of this notice contains information and instructions relevant to the application process for the SRD Program, and all applicants should read this notice in its entirety for the information required to submit eligible and competitive applications.

Table of Contents

A. Program Description

B. Federal Award Information

C. Eligibility Information

D. Application and Submission Information

E. Application Review

F. Federal Award Administration

G. Federal Awarding Agency Contacts

A. Program Description

FTA's Public Transportation Innovation program is authorized by Federal public transportation law (49 U.S.C. 5312). Under this authority, FTA may make grants, or enter into contracts, cooperative agreements, and other agreements for research, development, demonstration, deployment, and evaluation projects of national significance to public transportation that the Secretary determines will improve public transportation. The Safety Research and Demonstration (SRD) Program which was developed under this authority is a competitive demonstration opportunity under FTA's research emphasis area of safety and in support of the U.S. Department of Transportation's safety goals. The SRD Program provides technical and financial support for transit agencies to pursue innovative approaches to eliminate or mitigate known safety hazards in public transportation via demonstration of technologies and safer designs.

The goals of FTA's safety research, in general, are to:

• Improve public safety by reducing transit-related injuries, fatalities, safety events, and enhance system reliability by testing promising new technologies, designs and practices.

• Assess ways to promote better public transit safety cultures through the adoption of voluntary safety standards and best-practices.

The primary objectives of the FY 2018 SRD Program are to assist rail transit agencies to:

• Explore advanced technologies, designs and/or practices to mitigate and prevent safety hazards on rail transit systems; and

• Evaluate cost-effectiveness and practicability of potential solutions.

The FTA has a critical obligation to provide public transportation systems with the tools and resources needed to ensure the safe operation of those systems. The SRD Program will focus on improving the operational safety of rail transit systems.

To ensure any proposed demonstration project addresses known safety hazards of rail transit operations, FTA is requiring that project submittal teams partner with at least one rail transit agency. FTA will assess the strength of these partnerships in its evaluation of applications. As envisioned, the SRD Program will provide financial and technical assistance for transit agencies to pursue cutting edge technologies and innovative approaches, and more importantly, the opportunity to assess the effectiveness of these solutions in improving safety of rail transit systems.

FTA is seeking innovative projects to demonstrate market-ready or near market-ready advanced technologies, designs or practices to improve transit rail safety. These demonstrations are expected to provide benefits in the form of:

• Reduced fatalities and injuries.

• Improved travel time reliability.

• Cost savings to agencies, businesses and traveling public.

• Increased confidence and use of public transit service.

B. Federal Award Information

1. Amount Available

This notice makes available up to $7,300,000 under the Public Transportation Innovation program (49 U.S.C. 5312(b)), which FTA intends to award in the form of cooperative agreements, to support the research, development, demonstration, deployment, and evaluation of research and technology of national significance to public transportation that the Secretary determines will improve public transportation. FTA may, at its discretion, provide additional funds for selections made under this announcement or for additional meritorious proposals, if additional funding becomes available. FTA will announce final selections on the FTA website and may also announce selections in the Federal Register.

2. Award Size

There is no minimum or maximum award amount. Rather, project scale will be bounded by each project's ability to complete all proposed planning phase, development phase and a demonstration phase. The SRD Program is intended as a research demonstration program and not meant as a capital procurement program. FTA intends to fund as many meritorious projects as possible under this announcement. FTA recognizes that the funding available under this announcement may be insufficient to fund all meritorious projects. FTA may, at its discretion, select an application for award for less than the proposed amount. In those cases, applicants must be able to demonstrate that the proposed projects are still viable and can be completed with the amount awarded.

3. Type of Assistance Instrument

Projects funded through this NOFO will be structured as cooperative agreements in which the Federal government will have substantial involvement. The Federal role will include active participation in the project activities by attending review meetings, commenting on technical reports, and maintaining frequent contact with the local project manager. FTA reserves the right to re-direct project activities and funding for projects supported under this NOFO and their related activities.

4. Project Timelines

Projects funded under the SRD Program will be allowed a maximum of 6 months for project planning. The project must start within six months of project award or FTA reserve the right to redirect the funding to other meritorious projects under the program. A minimum of six months of demonstration, data collection and evaluation activities are required. The maximum period of performance allowed for the work covered by the award should not exceed forty-eight (48) months from the date of award.

5. Restrictions on Funding

The SRD Program is a research and development effort and, as such, FTA Research circular 6100.1E (available at https://www.transit.dot.gov/regulations-and-guidance/fta-circulars/research-technical-assistance-and-training-program) rules will apply in administering the program. Only proposals from eligible recipients (see C) for eligible activities will be considered for funding. Funds made available under this program may be used to fund operating expenses and preventive maintenance directly associated with the demonstration of the proposed project, but may not be used to fund such expenses for equipment not explicitly essential to the project. The SRD Program is a research demonstration program and not a capital procurement program. FTA seek proposals that demonstrate innovative safety technologies or solutions to improve rail transit safety. FTA does not seek to demonstrate existing solutions that are readily available or proven technologies accessible in the marketplace. Please review the six evaluation criteria outlined in Section E of this NOFO carefully.

C. Eligibility Information

To be selected for the SRD Program, an applicant must be an eligible applicant and the project must be an eligible project as defined below.

1. Eligible Applicants

To be eligible for funding under this NOFO, applicants must demonstrate that the proposed project is supported by a lead applicant in partnership with one or more strategic partner(s) with a substantial interest and involvement in the project. Eligible lead applicants under this notice must be existing FTA grant recipients. An application must clearly identify the eligible lead applicant and all project partners on the team.

Eligible project partners and sub-recipients under this program may include, but are not limited to:

• Public Transportation Systems;

• Private for profit and not for profit organizations, including technology system suppliers;

• Operators of transportation, such as employee shuttle services or airport connector services or university transportation systems;

• State or local government entities; and,

• Other organizations that may contribute to the success of the project team including consultants, research consortia or not-for-profit industry organizations, and institutions of higher education.

The lead applicant must have the ability to carry out the proposed agreement and procurements with team members in compliance with its respective State and local laws. FTA may determine that any named team member in the proposal is a key party and make any award conditional to the participation of that key party. A key party is essential to the project as approved by FTA and is therefore eligible for a noncompetitive award by the lead entity to provide the goods or services described in the application. A key party's participation on a selected project cannot be substituted without FTA's approval. For-profit companies may participate on teams; however, recipients and subrecipients of funding under this program may not charge a fee or profit from the FTA research program funding.

In instances where a provider(s) of public transportation is a partner and not the lead applicant, a detailed statement regarding the role of the rail transit service provider(s) in the project is required. The General Manager, for the public transportation service provider, must sign a letter committing the agency to the project as well as outline its specific roles and responsibilities in the project. FTA requires that project submittal teams partner with at least one rail transit agency.

2. Eligible Projects

Applicants may submit one proposal for each project but not one proposal containing multiple projects. Applicants are allowed to submit multiple proposals, but the proposals must be focused on the topic of rail transit safety.

The project proposals must include a research/synthesis phase, development phase and a demonstration phase. All phases are critical to project selection. Revenue-service, full-scale demonstrations are preferred where practicable. However, in cases where a full-scale demonstration would be impractical, detailed plans for non-revenue service or limited demonstration will be considered. Basic research or studies that do not result in any demonstration of the potential for commercialization or broad deployment within the scope of the project will not be considered for funding.

For the purpose of this solicitation, rail transit system is defined as transit modes whose vehicles travel along fixed rails forming a track. Rail transit systems that will be considered for this funding opportunity, lead applicant or part of the team, should be public rail transit agencies that falls under the jurisdiction of FTA's State Safety Oversight (SSO) Program. FTA hereby requests applications, to eligible entities, to develop projects for demonstration to improve operational safety of rail transit system. Applicants need to provide background information, including baseline data, regarding the safety hazards they have identified and the type of countermeasures proposed to mitigate and/or prevent accidents that could results in injuries and fatalities.

FTA is particularly interested in proposals to prevent and mitigate suicides and trespassing in rail transit systems. Data pulled from National Transit Database (NTD), between 2011 to August 2018, indicate 492 rail fatalities due to suicide, which accounts for 53% of all rail collisions related fatalities during that period. During the same time, there were 194 fatalities due to trespassing (or pedestrians not in a crossing, walking along the tracks, crossing the tracks). Fatalities due to trespassing and suicide accounted for 73% of all rail collision fatalities between 2011 and August 2018. In the same period, there were 505 non-fatal injuries recorded due to attempted suicide and 254 injuries sustained by trespassing. Attempted suicides and trespassing events accounted for a total of 759 non-fatal injuries, which resulted in 18% of all rail collision related injuries. US DOT's Volpe Center and Federal Railroad Administration (FRA) has compiled a list of research studies related to the topic of rail suicide prevention and trespassing that could be applicable to rail transit systems as well (https://www.volpe.dot.gov/rail-suicide-prevention).

FTA is also interested in reviewing applications related to the operational safety of shared corridor fixed guideway systems, including highway-rail grade crossing safety. NTD data from 2008-2014 indicated that fixed guideway operation on shared corridors has the highest rate of injuries to people waiting for or leaving the vehicles when normalized as a rate per 100 million vehicle miles traveled (VMT). For streetcar rail, the injury rates of occupants of other vehicles—both in terms of vehicle revenue miles and passenger miles—far exceeded all other transit modes. Light rail systems had the greatest increase in the number of fatalities, from 2008-2014, at 116.7%. Light rail systems had the largest increase in pedestrian crosswalk fatalities from 2008-2014. Light rail accounted for 82.3% of total injuries occurring at pedestrian or grade crossings from 2008-2014, the highest among all transit modes. The analysis of NTD data indicated a number of safety concerns associated with shared corridor fixed guideway operations for pedestrians, transit workers, rail transit users and occupants of personal vehicles.

FTA would like to receive research proposals addressing different types of safety hazards caused by intrusion incidents into the shared corridor fixed guideway operations, including highway-rail grade crossings safety, and evaluate the effectiveness of potential mitigation strategies. It should be noted that other sections of this NOFO contains additional eligibility information with respect to the SRD Program. All applicants should closely review all the sections of this NOFO.

3. Cost Sharing or Matching

The federal share of project costs under this program is limited to eighty percent (80%). Applicants are encouraged to seek a lower Federal contribution. The applicant must provide the local share of the net project cost in cash, or in-kind, and must document in its application the source of the local match. Eligible sources of local match are detailed in FTA Research Circular 6100.1E. (available at https://www.transit.dot.gov/regulations-and-guidance/fta-circular-61001e-research-technical-assistance-and-training-programs).

4. Other Requirements

a. Independent Evaluation

To achieve a comprehensive understanding of the impacts and implications of each proposed SRD demonstration, projects funded under this announcement will be subject to evaluation by an independent evaluator selected and funded separately by FTA. Recipients will be required to coordinate with the independent evaluator to assist in developing an evaluation plan; and collecting; storing and managing data required to fulfill the evaluation plan.

b. SRD Program Evaluation

Projects funded under this announcement will be required to support the efforts of FTA or its designee to evaluate the project and establish a set of performance metrics, which will be shared with selected project teams upon award.

c. Data Access and Data Sharing

Project funded under this announcement will be required to gather and share all relevant and required data with the FTA within appropriate and agreed-upon timelines, to support project evaluation. A detailed data collection and management plan will be a required deliverable within 120 days after effective date of award. Applicants should budget for the costs of data storage and sharing as appropriate.

In response to the White House Office of Science and Technology Policy memorandum dated February 22, 2013, entitled Increasing Access to the Results of Federally Funded Scientific Research, the department is incorporating Public Access Requirements into all funding awards for scientific research. All work conducted under the SRD Program must follow the Department data policies outlined in the DOT Public Access Plan at: https://ntl.bts.gov/public-access/how-comply. Recipients are required to include these obligations in any sub-awards or other related funding agreements.

FTA expects recipients to use publicly available data or data that can be made public and methodologies that are accepted by industry practice and standards, to the extent possible. If the submission includes information the applicant considers to be trade secret or confidential commercial or financial information, the applicant should do the following: (1) Note on the front cover that the submission “Contains Confidential Business Information (CBI)”; (2) mark each affected page “CBI”; and (3) highlight or otherwise denote the CBI portions. FTA protects such information from disclosure to the extent allowed under applicable law. In the event that FTA receives a Freedom of Information Act (FOIA) request for the information, FTA will follow the procedures described in the U.S. DOT FOIA regulations at 49 CFR 7. Only information that is ultimately determined to be confidential under that procedure will be exempt from disclosure under FOIA. Should FTA receive an order from a court of competent jurisdiction ordering the release of the information, FTA will provide applicant timely notice of such order to allow the applicant the opportunity to challenge such an order. FTA will not challenge a court order on behalf of applicant.

Recipients must make available to the Department copies of all work developed in performance of a project funded under this announcement, including but not limited to software and data. Data rights shall be in accordance with 2 CFR 200.315, Intangible property.

d. Knowledge and Technology Transfer

Project teams may be asked to participate in safety related information exchange meetings, conferences, webinars, or outreach events to share information with the transit industry and stakeholders on the progress and results of their project activities. Applicants should allocate a portion of their budgets to support such work, which may include travel or presentation at key industry gatherings. A knowledge transfer component is expected to be part of the proposal.

D. Application and Submission Information

1. Address and Form of Application Submission

Applications must be submitted electronically through GRANTS.GOV. general information for submitting applications through GRANTS.GOV can be found at www.grants.gov. Mail and fax submissions will not be accepted. A complete proposal submission will consist of at least two forms: (1) The SF 424 Application for Federal Assistance form (available at GRANTS.GOV) and (2) the supplemental form for the “Safety Research and Demonstration Program” (available at GRANTS.GOV and https://www.transit.dot.gov/research-innovation/safety-research-and-demonstration-program.)

The supplemental profile provides guidance and a consistent format for applicants to respond to the criteria outlined in this NOFO. Once completed, the supplemental profile must be placed in the attachments section of the SF 424 Mandatory form. Applicants must use the supplemental form designated for the Safety Research and Demonstration Program and attach it to their submission in GRANTS.GOV to successfully complete the application process. Failure to submit the information as requested can disqualify the application.

An applicant may attach additional supporting information to the SF-424 submission and supplemental form submission, including but not limited to letters of support, project budgets and other support documentations. The supporting documentation must be described and referenced by file name in the appropriate response section of the supplemental form, or it may not be reviewed.

Within 24 to 48 hours after submitting an electronic application, the applicant should receive 3 email messages from GRANTS.GOV: (1) Confirmation of successful transmission to GRANTS.GOV; (2) confirmation of successful validation by GRANTS.GOV; and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission.

Complete instructions on the application process can be found at https://www.transit.dot.gov/grants. FTA strongly encourages applicants to submit their applications at least 72 hours prior to the due date to allow time to receive the validation messages and to correct any problems that may have caused a rejection notification. FTA will not accept submissions after the stated submission deadline for any reason. GRANTS.GOV scheduled maintenance and outage times are announced on GRANTS.GOV. Deadlines will not be extended due to scheduled maintenance or outages.

Applicants are encouraged to begin the process of registration on the GRANTS.GOV website well in advance of the submission deadline. Instructions on the GRANTS.GOV registration process are listed in Appendix A. Registration is a multi-step process, which may take 3 to 5 days, but could take as much as several weeks to complete before an application can be submitted if the applicant needs to obtain certain identifying numbers external to GRANTS.GOV (for example, applying for an Employer Identification Number). Registered applicants may be required to update their registration before submitting an application. Registration in the System for Award Management (SAM) must be renewed annually and persons making submissions on behalf of the Authorized Organization Representative (AOR) must be authorized in GRANTS.GOV by the AOR to make submissions.

Applicants may submit one proposal for each project but not one proposal containing multiple projects. Information such as applicant name, Federal amount requested, local match amount, description of areas served, etc. may be requested in varying degrees of detail on both the SF 424 Form and Supplemental Form. Applicants must fill in all fields unless stated otherwise on the forms. Applicants should use both the “CHECK PACKAGE FOR ERRORS” and the “VALIDATE FORM” buttons to check all required fields on both forms, and ensure that the federal and local amounts specified are consistent. The information described in Sections “E” through “H” below MUST be included and/or addressed on the SF 424 Form and other supplemental forms for all requests for the “Safety Research and Demonstration Program” funding.

2. Application Content

At a minimum, every proposal must include an SF-424 form, with the Applicant and a Proposal Profile supplemental form attached. The Applicant and Proposal Profile supplemental form for the SRD Program can be found at https://www.transit.dot.gov/research-innovation/safety-research-and-demonstration-program.

All applicants are required to provide detailed information on the Applicant and Proposal Profile supplemental form, including:

(a) State the project title, the overall goals of the project, and describe the project scope, including anticipated deliverables.

(b) Discuss the current state of practice, challenges and how the proposed project will mitigate and/or prevent the safety hazard(s) identified in rail transit system(s).

(c) Details on whether the proposed demonstration is a new effort or a continuation of a prior research and degree of improvement over current technologies, designs, and/or practices.

(d) Address each evaluation criterion separately, demonstrating how the project responds to each criterion as described in Section E.

(e) Provide a line-item budget for the total project with enough detail to indicate the various key components of the project. As FTA may elect to fund only part of some project proposals, the budget should provide for the minimum amount necessary to fund specific project components of independent utility. If the project can be scaled, provide a scaling plan describing the minimum funding necessary for a feasible project and the impacts of a reduced funding level.

(f) Provide the Federal amount requested and document the matching funds, including amount and source of the match (may include local or private sector financial participation in the project). Provide support documentation, including financial statements, bond-ratings, and documents supporting the commitment of non-federal funding to the project, or a timeframe upon which those commitments would be made.

(g) A project time-line outlining steps from project implementation through completion, including significant milestones and the roles of the responsible team members.

(h) The proposed location(s) of the research and demonstration, the type of rail modes, the type of rail vehicle, the number of rail vehicles involved in the demonstration.

(i) A description of any exceptions or waivers to FTA requirements or policies necessary to successfully implement the proposed project. FTA is not inclined to grant deviations from its requirements, but may consider deviations if the applicant can show a compelling benefit. Examples: Buy America requirement, Deferred Local Share, Letter of No prejudice, etc.

(j) Potential issues (technical or other) that may influence the success of the project.

(k) Address whether other Federal funds have been sought for the project.

(l) Provide Congressional district information for the project's place of performance.

(m) Consistent with the Department's R.O.U.T.E.S. Initiative (https://www.transportation.gov/rural), the Department encourages applicants to describe how activities proposed in their application would address the unique challenges facing rural transportation networks, regardless of the geographic location of those activities.

3. Unique Entity Identifier and System for Award Management (SAM)

Each applicant must: (i) Be registered in SAM before submitting its application; (ii) provide a valid unique entity identifier in its application; and (iii) continue to maintain an active SAM registration with current information at all times during which it has an active Federal award or an application or plan under consideration by a Federal awarding agency. FTA may not make a Federal award to an applicant until the applicant has complied with all applicable unique entity identifier and SAM requirements and, if an applicant has not fully complied with the requirements by the time FTA is ready to make an award FTA may determine that the applicant is not qualified to receive a Federal award and use that determination as a basis for making a Federal award to another applicant.

STEP 1: Obtain DUNS Number: Go to Dun & Bradstreet at http://fedgov.dnb.com/webform to obtain the number.

STEP 2: Register with SAM: The registration process can take as little as three to five business days or up to two weeks if registering for the first time.

STEP 3: Username & Password: Complete your AOR profile on Grants.gov and create a username and password.

STEP 4: AOR Authorization: Confirm the AOR. Please note that organizations can have more than one AOR. In some cases the E-Biz POC is also the AOR for an organization.

STEP 5: TRACK AOR STATUS: Login as an Applicant (enter your username & password you obtained in Step 3) to track the AOR status.

4. Submission Dates and Times

Project proposals must be submitted electronically through GRANTS.GOV by 11:59 p.m. EDT on March 24, 2020. Late applications will not be accepted.

5. Funding Restrictions

Funds under this NOFO cannot be used to reimburse projects for otherwise eligible expenses incurred prior to FTA award of a Cooperative Agreement unless FTA has issued a “Letter of No Prejudice” for the project before the expenses are incurred.

The SRD Program is a research and development effort and as such FTA Circular 6100.1E rules will apply in administering the program.

E. Application Review

1. Evaluation Criteria

Projects will be evaluated by FTA per the following six evaluation criteria described in this section. Each applicant is encouraged to demonstrate the responsiveness of a project to all the criteria shown below with the most relevant information that the proposer can provide.

The FTA will assess the extent to which a proposal addresses the following criteria:

(a) Project Innovation and Impact

(i) Anticipated effectiveness of the project in achieving and demonstrating the specific objectives of the FY 2018 SRD Program.

(ii) Anticipated demonstration of benefits in addressing the specific needs of the rail transit agencies and industry.

(iii) Anticipated degree of improvement over current and existing technologies, designs, and/or practices.

(b) Project Approach

(i) Quality of the project approach such as existing partnerships, collaboration strategies and level of commitment of the project partners.

(ii) Proposal is realistic in its approach to fulfill the milestones/deliverables, schedule and goals.

(iii) Proposal clearly establishes a research phase, a development phase and a demonstration phase.

(c) National Applicability

(i) Degree to which the project could be replicated by other rail transit agencies regionally or nationally. Consistent with the Department's R.O.U.T.E.S. Initiative (https://www.transportation.gov/rural), the Department recognizes that rural transportation networks face unique challenges. To the extent that those challenges are reflected in the merit criteria listed in this section, the Department will consider how the activities proposed in the application will address those challenges, regardless of the geographic location of those activities.

(ii) Ability to evaluate technologies, designs and/or practices in a wide variety of conditions and locales.

(iii) Degree to which the technology, designs and/or practices can be replicated by other rail modes and/or transportation modes.

(d) Team Resources and Capacity

(i) The level of local match (minimum of 20%) and the quality of cost share (in-kind or cash).

(ii) Availability of resources to carry out the project: Physical facilities, technical, human and financial.

(iii) Demonstrated capacity and experience of the partners to carry out the demonstration project of similar size and/or scope.

(e) Commercialization and/or Knowledge Transfer

(i) Demonstrates a realistic plan for moving the results of the project into the transit marketplace (patents, conferences, articles in trade magazines, webinar, site visits, etc.).

(ii) How the project team plans to work with the industry on improving best practices, guidance and/or standards, if applicable.

(iii) demonstrate a clear understanding and robust approach to data collection, access and management.

(f) Return on Investment

(i) Cost-effectiveness of the proposed project.

(ii) Anticipated measurable safety improvements and potential impact on industry guidance and/or standards. Safety performance data could include conventional data regarding safety incidents, operational data, exposure measures, and innovative measures of safety-relevant appropriate to the project that might indicate an improvement on safety performance.

(iii) Other anticipated benefits, such as making public transportation service more appealing to potential passengers (increase reliability, reduction of wait time, etc.), providing educational opportunities, or reducing negative externalities such as traffic congestion and others.

2. Review and Selection Process

A technical evaluation panel comprising FTA, and possibly other Departmental or Federal agency staff will review project proposals against the evaluation criteria listed above. The technical evaluation panel may seek clarification from any applicant about any statement in the proposal. FTA may also request additional documentation or information to be considered during the evaluation process. After the evaluation of all eligible proposals, the technical evaluation panel will provide project recommendations to the FTA Administrator.

The FTA Administrator will determine the final list of project selections, and the amount of funding for each project. Geographic diversity, diversity of project type, and the applicant's receipt of other Federal funding may be considered in FTA's award decisions. FTA may prioritize projects proposed with a higher local share.

3. FAPIIS Review

FTA, prior to making an award, is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM.

FTA will consider any comments by the applicant, in addition to the other information in the designated integrity and performance system, in making a judgment about the applicant's integrity, business ethics, and record of performance under Federal awards when completing the review of risk posed by applicants as described in § 200.205 Federal awarding agency review of risk posed by applicants.

F. Federal Award Administration

The FTA intends to fund multiple meritorious projects to support executing eligible project activities. To enhance the value of the portfolio of research and demonstration projects to be implemented, FTA reserves the right to request an adjustment of the project scope and budget of any proposal selected for funding. Such adjustments shall not constitute a material alteration of any aspect of the proposal that influenced the proposal evaluation or decision to fund the project.

1. Federal Award Notice

Subsequent to announcement by the Federal Transit Administration of the final project selections posted on the FTA website, FTA may publish a list of the selected projects, including Federal dollar amounts and recipients.

2. Administrative and National Policy Requirements

a. Pre-Award Authority

The FTA will issue specific guidance to recipients regarding pre-award authority at the time of selection. The FTA does not provide pre-award authority for competitive funds until projects are selected and even then, there are Federal requirements that must be met before costs are incurred. Preparation of proposals is not an eligible pre-award expense. For more information about FTA's policy on pre-award authority, please see the Apportionment Notice published on July 3, 2019. https://www.federalregister.gov/documents/2019/07/03/2019-14248/fta-fiscal-year-2019-apportionments-allocation-and-program-information.

b. Grant Requirements

Successful proposals will be awarded through FTA's Transit Award Management System (TrAMS) as Cooperative Agreements.

c. Planning

The FTA encourages applicants to engage the appropriate State Departments of Transportation, Regional Transportation Planning Organizations, or Metropolitan Planning Organizations in areas likely to be served by the project funds made available under this programs.

d. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

e. Buy America

FTA requires that all capital procurements meet FTA's Buy America requirements per 49. U.S.C. 5323(j), which require all iron, steel, or manufactured products be produced in the United States. Federal public transportation law provides for a phased increase in the domestic content for rolling stock. For FY 2020 and beyond, the cost of components and subcomponents produced in the United States must be more than 70 percent of the cost of all components. There is no change to the requirement that final assembly of rolling stock must occur in the United States. FTA issued guidance on the implementation of the phased increase in domestic content on September 1, 2016 (81 FR 60278). Applicants should read the policy guidance carefully to determine the applicable domestic content requirement for their project. Any proposal that will require a waiver must identify in the application the items for which a waiver will be sought. Applicants should not proceed with the expectation that waivers will be granted, nor should applicants assume that selection of a project under the Low-No Program that includes a partnership with a manufacturer, vendor, consultant, or other third party constitutes a waiver of the Buy America requirements applicable at the time the project is undertaken. Consistent with Executive Order 13858 Strengthening Buy-American Preferences for Infrastructure Projects, signed by President Trump on January 31, 2019, applicants should maximize the use of goods, products, and materials produced in the United States, in Federal procurements and through the terms and conditions of Federal financial assistance awards. Additional information on Buy America requirements can be found at https://www.transit.dot.gov/buyamerica.

3. Reporting

Post-award reporting requirements include submission of Federal Financial Reports and Milestone Reports in FTA's electronic grants management system reports on a quarterly basis for all projects. A final report is required upon the completion of the project as well.

G. Federal Awarding Agency Contacts

For further information concerning this notice, please contact the FTA SRD Program manager Roy Chen at royweishun.chen@dot.gov or 202-366-0462. A TDD is available for individuals who are deaf or hard of hearing at 1-800-877-8339.

Issued in Washington, DC.
K. Jane Williams,
Acting Administrator.

[FR Doc. 2020-02844 Filed 2-12-20; 8:45 am]

BILLING CODE P